DEPARTMENT OF COMMERCE

Economic Development Administration

Agency Information Collection Activities; Submission to the Office of Management and Budget (OMB) for Review and Approval; Comment Request; Regional Economic Development Data Collection Instrument

AGENCY: Economic Development Administration, Department of Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 17, 2023).

ADDRESSES: Interested persons are invited to submit written comments by mail to Bernadette Grafton, Research and National Technical Assistance (RNTA) Coordinator, Performance Research and National Technical Assistance Division, U.S. Department of Commerce, at bgrafton1@eda.gov or to PRAcomments@doc.gov. Do not submit Confidential Business Information or otherwise sensitive or protected information.

FOR FURTHER INFORMATION CONTACT: Requests for additional information or specific questions related to collection activities should be directed to Bernadette Grafton, Research and National Technical Assistance (RNTA) Coordinator, Performance Research and National Technical Assistance Division, U.S. Department of Commerce, at bgrafton1@eda.gov or 202-482-2917.

SUPPLEMENTARY INFORMATION:

I. Abstract

The Economic Development Administration (EDA) leads the Federal economic development agenda by promoting innovation and competitiveness, preparing American regions for growth and success in the worldwide economy. Guided by the basic principle that sustainable economic development should be driven locally, EDA works directly with communities and regions to help them build the capacity for economic development based on local business conditions and needs. The Public Works and Economic Development Act of 1965 (PWEDA) (42 U.S.C. 3121 et seq.) is EDA's organic authority and is the primary legal authority under which EDA awards financial assistance. Under PWEDA, EDA provides financial assistance to both rural and urban distressed communities by fostering entrepreneurship, innovation, and productivity through investments in infrastructure development, workforce development, capacity building, and business development to attract private capital investments and new and better jobs to regions experiencing economic distress. Further information on EDA programs and financial assistance opportunities can be found at https://eda.gov/www.eda.gov.

To effectively administer and monitor its economic development assistance programs, EDA collects certain information from applications for, and recipients of, EDA investment assistance. The purpose of this notice is to seek comments from the public and other Federal agencies on a request for a new information collection for recipients of awards under the EDA American Rescue Plan Act (ARPA) Build Back Better Regional Challenge.

The proposed information collection will employ an innovative mixed methods approach to gather traditional metrics in addition to qualitative data on all regions participating in the Build Back Better Regional Challenge program. Secondary data will be gathered and monitored for each of the regions/awardees. A quarterly questionnaire will be sent to each of the BBBRC coalition leads which will gather the relevant data and stories for each of the 21 BBBRC coalitions, resulting in coalition regional impact evaluation, resources, and tools for regional economic development decision-makers.

This collection will explore several thematic areas for the Build Back Better Regional Challenge, where each of the following areas are based on survey scope of work themes:

1. Accelerating innovation in emerging technologies to gain an understanding of the long-term impact on economic and social sectors;

2. Helping workers access information on new job opportunities, job placement, and job training and prepare for and be hired into good jobs;

3. Increasing new business growth and entrepreneurial activity within the industry sectors;

4. Building critical infrastructure such as roads, water and sewer miles, business and industries to allow for economic development and growth; and

5. Helping businesses adopt new technologies so that they may enter new markets, increasing their economic capacity and overall sustainability.

Within each of the categories of questions, organized by thematic area noted above, there will be equity-based questions to support greater understanding of how equity is being implemented throughout regional economic development projects.

Coalition leads will respond to the appropriate thematic area, answering questions related to the following categories:

• Reflections and updates on the coalition implementation process and progress;

• The ability to secure additional non-federal investments;

• Detailing the programs, trainings, and curricula developed/launched for job training/workforce development;

• Development and growth surrounding infrastructure; and

• Job creation, wage growth, and existing employee growth and development

The collection instrument also includes questions related to the overall programmatic experience such Community of Practice support.

II. Method of Collection

Data will be collected electronically.

III. Data

OMB Control Number: None: new information collection.

Form Number(s): None: new information collection.

Type of Review: Regular submission: new information collection.

Affected Public: Recipients of ARPA Build Back Better Regional Challenge awards, which may include a(n): District Organization; Indian Tribe or a consortium of Indian Tribes; State, county, city, or other political subdivision of a State, including a special purpose unit of a state or local government engaged in economic or infrastructure development activities or a consortium of political subdivisions; Institution of Higher Education or a consortium of institutions of higher education; or Public or private non-profit organization or association, including labor unions, acting in cooperation with officials of a political subdivision of a State.

Estimated Number of Respondents: 21 respondents, responding quarterly.

Estimated Time per Response: 2.5 hours/per respondent.

Estimated Total Annual Burden Hours: 210 hours.

Estimated Total Annual Cost to Public: $12,768 (cost assumes application of U.S. Bureau of Labor Statistics second quarter 2022 mean hourly employer costs for employee compensation for professional and related occupations of $60.80).

Respondent's Obligation: Mandatory.

Legal Authority: The Public Works and Economic Development Act of 1965 (42 U.S.C. 3121 et seq).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer,Office of the Chief Information Officer,Commerce Department.

[FR Doc. 2022-24977 Filed 11-15-22; 8:45 am]

BILLING CODE 3510-34-P